COMMITTEE FOR PURCHASE FROM PEOPLE WHO ARE BLIND OR SEVERELY DISABLED

Procurement List; Addition

AGENCY: Committee for Purchase From People Who Are Blind or Severely Disabled.

ACTION: Addition to the Procurement List.

SUMMARY: This action adds a service to the Procurement List that will be provided by a nonprofit agency employing persons who are blind or have other severe disabilities.

DATES: Effective Date: 5/9/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Addition

On 1/28/2011 (76 FR 5142-5143), the Committee for Purchase From People Who Are Blind or Severely Disabled published notice of proposed addition to the Procurement List.

Comments were received from two individuals who questioned the capability of the nonprofit agency to perform all of the required services on the contract and the suitability of this project for people who are blind or severely disabled. Both individuals expressed concerns about the pay and benefits package of the nonprofit agency.

The Committee for Purchase From People Who Are Blind or Severely Disabled (Committee) administers the AbilityOne® Program under the authority of the Javits-Wagner-O'Day Act. Committee responsibilities include identifying products and services produced or provided by qualified nonprofit agencies employing people who are blind or severely disabled that the Committee determines are suitable for procurement by the Government. In accordance with Committee statutory and regulatory requirements, each project considered for addition to the Procurement List is reviewed by the Committee for suitability; particularly employment potential, nonprofit agency qualifications and level of impact on the current contractor.

The project requires a range of services that will provide employment opportunities for people with severe disabilities who otherwise face significant barriers to employment. These employees will be paid service contract wages in accordance with the Service Contract Act. The qualified nonprofit agency designated to perform the project is a capable organization with experience in fulfilling this type of service requirements, and will comply with Department of Labor requirements including wage determination rates. People who are blind or have other significant disabilities have the ability to perform the requisite job functions, and will be supported with training and supervision. If necessary, certain job functions on this project may be subcontracted.

This has been considered by the Committee in their review of the suitability of this project for addition to the Procurement List

After consideration of the material presented to it concerning capability of qualified nonprofit agency to furnish the service and impact of the addition on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Base Operations Support Service, Support Service Directorate of Public Works (DPW)/Directorate of Logistics (DOL), 330 Engineer Avenue, Carlisle Barracks, Carlisle, PA.

NPA: The Chimes, Inc., Baltimore, MD.

Contracting Activity: Dept of the Army, XR W6BA ACA NRCC, Fort Eustis, VA.

Barry S. Lineback,
Director, Business Operations.

[FR Doc. 2011-8387 Filed 4-7-11; 8:45 am]

BILLING CODE 6353-01-P